DEPARTMENT OF ENERGY

Federal Energy Regulatory Commission

[Docket No. RP03-328-000]

Panhandle Eastern Pipe Line Company; Notice of Annual Report of Flow Through of Penalty Revenues

April 3, 2003.

Take notice that on March 31, 2003, Panhandle Eastern Pipe Line Company (Panhandle) tendered for filing its Annual Report of Flow Through of Penalty Revenues.

Panhandle states that this filing is made in accordance with section 25.2(c)(i) of the General Terms and Conditions in Panhandle's FERC Gas Tariff, First Revised Volume No. 1.

Panhandle further states that copies of this filing are being served on all affected customers and applicable state regulatory agencies.

Any person desiring to be heard or to protest said filing should file a motion to intervene or a protest with the Federal Energy Regulatory Commission, 888 First Street, NE., Washington, DC 20426, in accordance with sections 385.314 or 385.211 of the Commission's rules and regulations. All such motions or protests must be filed on or before the comment date. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 10, 2003.

Magalie R. Salas,
Secretary.

[FR Doc. 03-8784 Filed 4-9-03; 8:45 am]

BILLING CODE 6717-01-P